DEPARTMENT OF ENERGY

Federal Energy Regulatory Commission

[Docket No. RC08-7-000]

Constellation Energy Commodities Group, Inc.; Notice of Filing

July 15, 2008.

Take notice that on July 11, 2008, Constellation Energy Commodities Group, Inc. (Constellation) filed a request for appeal from North American Electric Reliability Corporation (NERC) Compliance Registry for the Texas Regional Entity Region. Constellation states that it is a power marketer, an active market participant in the market administered by the independent transmission system operator of the Electric Reliability Council of Texas (ERCOT), sells natural gas and other commodities in the United States and abroad, and holds interest in exploration and production companies, however it does not own any physical assets for the generation, transmission, or distribution of electric power and has no retail electric customers or service territories. Constellation and Power Resources, Ltd. (PRL) are parties to a Tolling Agreement in which Constellation agreed to be the Qualified Scheduling Entity for the PRL facility. Constellation asks that the Commission reverse the NERC's inclusion of its registration as a Generator Operator.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive E-mail notification when a document is added to a subscribed docket(s). For assistance with any FERC Online service, please e-mail FERCOnlineSupport@ferc.gov, or call (866) 208-3676 (toll free). For TTY, call (202) 502-8659.

Comment Date: 5 p.m. Eastern Time on August 11, 2008.

Kimberly D. Bose,
Secretary.

[FR Doc. E8-16926 Filed 7-23-08; 8:45 am]

BILLING CODE 6717-01-P